DEPARTMENT OF THE TREASURY

Internal Revenue Service

26 CFR Part 1

[TD 9257]

RIN 1545-AY49

Application of Section 338 to Insurance Companies; Correction

AGENCY: Internal Revenue Service (IRS), Treasury.

ACTION: Correcting amendment.

SUMMARY: This document corrects final and temporary regulations (TD 9257) that were published in the Federal Register on Monday, April 10, 2006 (71 FR 17990) applying to a deemed sale or acquisition of an insurance company's assets pursuant to an election under section 338 of the Internal Revenue Code, to a sale or acquisition of an insurance trade or business subject to section 1060, and to the acquisition of insurance contracts through assumption reinsurance.

DATES: This correction is effective April 10, 2006.

FOR FURTHER INFORMATION CONTACT: Mark Weiss, (202) 622-7790 (not a toll-free number).

SUPPLEMENTARY INFORMATION:

Background

The final and temporary regulations (TD 9257) that are the subjects of this correction are under sections 197, 338, 381, and 1060 of the Internal Revenue Code.

Need for Correction

As published, TD 9257 contains an error that may prove to be misleading and is in need of clarification.

List of Subjects in 26 CFR Part 1

Income taxes, Reporting and recordkeeping requirements.

Correction of Publication

Accordingly, 26 CFR part 1 is corrected by making the following correcting amendment:

PART 1—INCOME TAXES

Paragraph 1. The authority citation for part 1 continues to read, in part, as follows:

Authority: 26 U.S.C. 7805 * * *

Par. 2. Section 1.338.11T is corrected by revising paragraph (d)(3)(ii)(2) to read as follows:

§ 1.338-11T Effect of section 338 election on insurance company targets (temporary).

* * * * *

(d) * * *

(3) * * *

(ii) * * *

(2) B equals old target's undiscounted unpaid losses (determined under section 846(b)(1) as of the close of the acquisition date;

* * * * *

Guy R. Traynor,
Chief, Publications and Regulations Branch, Legal Processing Division, Associate Chief Counsel, (Procedure and Administration).

[FR Doc. 06-4272 Filed 5-8-06; 8:45 am]

BILLING CODE 4830-01-P